DEPARTMENT OF TRANSPORTATION

Federal Aviation Administration

14 CFR Part 39

[Docket No. FAA-2005-23196; Directorate Identifier 2005-NM-187-AD; Amendment 39-14506; AD 2006-05-09]

RIN 2120-AA64

Airworthiness Directives; Boeing Model 747-200C, -200F, -400, -400D, and -400F Series Airplanes

AGENCY: Federal Aviation Administration (FAA), Department of Transportation (DOT).

ACTION: Final rule.

SUMMARY: The FAA is adopting a new airworthiness directive (AD) for certain Boeing Model 747-200C, -200F, -400, -400D, and -400F series airplanes. This AD requires repetitive inspections for cracks in the overlapping (upper) skin, upper fastener row of the lap joints of the fuselage skin in sections 41, 42, and 46; and related investigative and corrective actions, if necessary. This AD results from fatigue tests and an analysis that identified areas of the fuselage lap joints where fatigue cracks can occur. We are issuing this AD to detect and correct fatigue cracks in the overlapping (upper) skin, upper fastener row of the lap joints of the fuselage skin in sections 41, 42, and 46, which could adversely affect the structural integrity of the airplane.

DATES: This AD becomes effective April 13, 2006.

The Director of the Federal Register approved the incorporation by reference of a certain publication listed in the AD as of April 13, 2006.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Nick Kusz, Aerospace Engineer, Airframe Branch, ANM-120S, FAA, Seattle Aircraft Certification Office, 1601 Lind Avenue, SW., Renton, Washington 98055-4056; telephone (425) 917-6432; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747-200C, -200F, -400, -400D, and -400F series airplanes. That NPRM was published in the Federal Register on December 6, 2005 (70 FR 72599). That NPRM proposed to require repetitive inspections for cracks in the overlapping (upper) skin, upper fastener row of the lap joints of the fuselage skin in sections 41, 42, and 46; and related investigative and corrective actions, if necessary.

Comments

We provided the public the opportunity to participate in the development of this AD. We have considered the comment received. The commenter, Boeing, supports the NPRM.

Conclusion

We have carefully reviewed the available data, including the comment received, and determined that air safety and the public interest require adopting the AD as proposed.

Costs of Compliance

There are about 796 airplanes of the affected design in the worldwide fleet. This AD affects about 153 airplanes of U.S. registry. The required inspections will take about 534 work hours per airplane, at an average labor rate of $65 per work hour. Based on these figures, the estimated cost of the AD for U.S. operators is $5,310,630, or $34,710 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-05-09 Boeing: Amendment 39-14506. Docket No. FAA-2005-23196; Directorate Identifier 2005-NM-187-AD.

Effective Date

(a) This AD becomes effective April 13, 2006.

Affected ADs

(b) None.

Applicability

(c) This AD applies to Boeing Model 747-200C, -200F, -400, -400D, and -400F series airplanes, certificated in any category; as identified in Boeing Alert Service Bulletin 747-53A2499, dated August 11, 2005.

Unsafe Condition

(d) This AD results from fatigue tests and an analysis that identified areas of the fuselage lap joints where fatigue cracks can occur. We are issuing this AD to detect and correct fatigue cracks in the overlapping (upper) skin, upper fastener row of the lap joints of the fuselage skin in sections 41, 42, and 46, which could adversely affect the structural integrity of the airplane.

Compliance

(e) You are responsible for having the actions required by this AD performed within the compliance times specified, unless the actions have already been done.

Initial Inspections and Related Investigative and Corrective Actions

(f) At the applicable time specified in Table 1 of this AD: Do an external surface high frequency eddy current (HFEC), external low frequency eddy current (LFEC), and internal LFEC inspection, as applicable, for cracks in the overlapping (upper) skin, upper fastener row of the lap joints of the fuselage skin in sections 41, 42, and 46, and any applicable related investigative and corrective actions by doing all of the actions in accordance with the Accomplishment Instructions of Boeing Alert Service Bulletin 747-53A2499, dated August 11, 2005, except as provided by paragraph (h) of this AD. Do any applicable related investigative and corrective actions before further flight.

Table 1.—Initial Compliance Time
For airplanes on which Structural Significant Items (SSIs) F-25G, F-25H, and F-25I— | Inspect—
(1) Have not been inspected in accordance with paragraph (d) of AD 2004-07-22, amendment 39-13566 (69 FR 24063, May 3, 2004), using the HFEC method | Before the accumulation of 22,000 total flight cycles, or within 1,000 flight cycles after the effective date of this AD, whichever occurs later.
(2) Have been inspected in accordance with paragraph (d) of AD 2004-07-22, using the HFEC method | Within 3,000 flight cycles after the most recent supplemental structural inspection document (SSID) inspection of each applicable structural significant item (as given in Boeing Document D6-35022, “SSID for Model 747 Airplanes,” Revision G, dated December 2000), or within 1,000 flight cycles after the effective date of this AD, whichever occurs later.

Repetitive Inspections

(g) Repeat the applicable inspections required by paragraph (f) of this AD thereafter at intervals not to exceed those specified in paragraph 1.E., “Compliance” (including the note) of Boeing Alert Service Bulletin 747-53A2499, dated August 11, 2005.

Exception to Service Bulletin Instructions

(h) Where the service bulletin specifies to contact Boeing for appropriate action, before further flight, repair the crack using a method approved in accordance with the procedures specified in paragraph (i) of this AD.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing Alert Service Bulletin 747-53A2499, dated August 11, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 27, 2006.
Ali Bahrami,
Manager, Transport Airplane Directorate, Aircraft Certification Service.

[FR Doc. 06-2142 Filed 3-8-06; 8:45 am]

BILLING CODE 4910-13-P